DEPARTMENT OF ENERGY

Federal Energy Regulatory Commission

Combined Notice of Filings #3

Take notice that the Commission has received the following Natural Gas Pipeline Rate and Refund Report filings:

Filings Instituting Proceedings

Docket Numbers: RP22-291-000.

Applicants: Black Marlin Pipeline LLC.

Description: Compliance filing: Petition for Temporary Exemption from Tariff Revision Filing—Order 587-Z to be effective N/A.

Filed Date: 11/12/21.

Accession Number: 20211112-5116.

Comment Date: 5 p.m. ET 11/24/21.

Docket Numbers: RP22-292-000.

Applicants: Trunkline Gas Company, LLC.

Description: Compliance filing: Annual Interruptible Storage Revenue Credit filed 11-12-21 to be effective N/A.

Filed Date: 11/12/21.

Accession Number: 20211112-5126.

Comment Date: 5 p.m. ET 11/24/21.

Docket Numbers: RP22-293-000.

Applicants: Cheniere Creole Trail Pipeline, L.P.

Description: Compliance filing: Cheniere Creole Trail Pipeline NAESB 3.2 Compliance Filing to be effective 6/1/2022.

Filed Date: 11/12/21.

Accession Number: 20211112-5127.

Comment Date: 5 p.m. ET 11/24/21.

Docket Numbers: RP22-294-000.

Applicants: Cheniere Corpus Christi Pipeline, LP.

Description: Compliance filing: Cheniere Corpus Christi Pipeline NAESB 3.2 Filing to be effective 6/1/2022.

Filed Date: 11/12/21.

Accession Number: 20211112-5128.

Comment Date: 5 p.m. ET 11/24/21.

Docket Numbers: RP22-295-000.

Applicants: Midship Pipeline Company, LLC.

Description: Compliance filing: Midship Pipeline Company NAESB 3.2 Compliance Filing to be effective 6/1/2022.

Filed Date: 11/12/21.

Accession Number: 20211112-5130.

Comment Date: 5 p.m. ET 11/24/21.

Docket Numbers: RP22-296-000.

Applicants: Transcontinental Gas Pipe Line Company, LLC.

Description: § 4(d) Rate Filing: Order No. 587-Z Compliance (NAESB 3.2) to be effective 6/1/2022.

Filed Date: 11/12/21.

Accession Number: 20211112-5165.

Comment Date: 5 p.m. ET 11/24/21.

Docket Numbers: RP22-297-000.

Applicants: Bluewater Gas Storage, LLC.

Description: Compliance filing: Order No. 587-Z Compliance Filing to be effective 6/1/2022.

Filed Date: 11/12/21.

Accession Number: 20211112-5170.

Comment Date: 5 p.m. ET 11/24/21.

Docket Numbers: RP22-298-000.

Applicants: Stingray Pipeline Company, L.L.C.

Description: Compliance filing: NAESB 3.2 Compliance to be effective 6/1/2022.

Filed Date: 11/12/21.

Accession Number: 20211112-5175.

Comment Date: 5 p.m. ET 11/24/21.

Docket Numbers: RP22-299-000.

Applicants: Empire Pipeline, Inc.

Description: Compliance filing: Empire NAESB v3.2 (Order 587-Z) to be effective 6/1/2022.

Filed Date: 11/12/21.

Accession Number: 20211112-5180.

Comment Date: 5 p.m. ET 11/24/21.

Docket Numbers: RP22-300-000.

Applicants: Pine Needle LNG Company, LLC.

Description: § 4(d) Rate Filing: Pine Needle Order No. 587-Z Compliance (NAESB 3.2) to be effective 6/1/2022.

Filed Date: 11/12/21.

Accession Number: 20211112-5184.

Comment Date: 5 p.m. ET 11/24/21.

Docket Numbers: RP22-301-000.

Applicants: PPG Shawville Pipeline, LLC.

Description: Compliance filing: NAESB 3.2 standards 2022 to be effective 6/1/2022.

Filed Date: 11/12/21.

Accession Number: 20211112-5186.

Comment Date: 5 p.m. ET 11/24/21.

Docket Numbers: RP22-302-000.

Applicants: National Fuel Gas Supply Corporation.

Description: Compliance filing: National Fuel NAESB Version 3.2 (Order No. 587-Z) to be effective 6/1/2022.

Filed Date: 11/12/21.

Accession Number: 20211112-5191.

Comment Date: 5 p.m. ET 11/24/21.

Docket Numbers: RP22-303-000.

Applicants: Southern Star Central Gas Pipeline, Inc.

Description: Compliance filing: NAESB 3.2 to be effective 6/1/2022.

Filed Date: 11/12/21.

Accession Number: 20211112-5206.

Comment Date: 5 p.m. ET 11/24/21.

Docket Numbers: RP22-304-000.

Applicants: Southern Natural Gas Company, L.L.C.

Description: Compliance filing: SNG Operational Transactions Filing to be effective N/A.

Filed Date: 11/12/21.

Accession Number: 20211112-5207.

Comment Date: 5 p.m. ET 11/24/21.

Docket Numbers: RP22-305-000.

Applicants: WestGas InterState, Inc.

Description: Compliance filing: RP22-XXXX 587-Z Compliance to be effective 11/12/2021.

Filed Date: 11/12/21.

Accession Number: 20211112-5219.

Comment Date: 5 p.m. ET 11/24/21.

Docket Numbers: RP22-306-000.

Applicants: TransCameron Pipeline, LLC.

Description: Compliance filing: Compliance Filing 2022 to be effective 6/1/2022.

Filed Date: 11/12/21.

Accession Number: 20211112-5220.

Comment Date: 5 p.m. ET 11/24/21.

Docket Numbers: RP22-307-000.

Applicants: Millennium Pipeline Company, LLC.

Description: Compliance filing: NAESB 3.2—Compliance to RM96-1-042—Order No. 587-Z to be effective 6/1/2022.

Filed Date: 11/12/21.

Accession Number: 20211112-5221.

Comment Date: 5 p.m. ET 11/24/21.

Docket Numbers: RP22-308-000.

Applicants: Kinetica Energy Express, LLC.

Description: Compliance filing: Compliance Filing—FERC Order No. 587-Z to be effective 6/1/2022.

Filed Date: 11/12/21.

Accession Number: 20211112-5256.

Comment Date: 5 p.m. ET 11/24/21.

Docket Numbers: RP22-309-000.

Applicants: Kinetica Deepwater Express, LLC.

Description: Compliance filing: Compliance Filing—FERC Order No. 587-Z to be effective 6/1/2022.

Filed Date: 11/12/21.

Accession Number: 20211112-5258.

Comment Date: 5 p.m. ET 11/24/21.

Docket Numbers: RP22-310-000.

Applicants: Spire STL Pipeline LLC.

Description: Compliance filing: STL Order 587-Y NAESB Compliance Filing to be effective 6/1/2022.

Filed Date: 11/12/21.

Accession Number: 20211112-5262.

Comment Date: 5 p.m. ET 11/24/21.

Docket Numbers: RP22-311-000.

Applicants: Freebird Gas Storage, L.L.C.

Description: Compliance filing: Freebird Gas Storage NAESB Compliance Filing to be effective 6/1/2022.

Filed Date: 11/12/21.

Accession Number: 20211112-5283.

Comment Date: 5 p.m. ET 11/24/21.

Docket Numbers: RP22-312-000.

Applicants: Mississippi Hub, LLC.

Description: Compliance filing: Mississippi Hubs NAESB Compliance Filing to be effective 6/1/2022.

Filed Date: 11/12/21.

Accession Number: 20211112-5304.

Comment Date: 5 p.m. ET 11/24/21.

Docket Numbers: RP22-313-000.

Applicants: Caledonia Energy Partners, L.L.C.

Description: Compliance filing: Caledonia Energy Partners LLC NAESB Compliance Filing to be effective 6/1/2022.

Filed Date: 11/12/21.

Accession Number: 20211112-5306.

Comment Date: 5 p.m. ET 11/24/21.

Docket Numbers: RP22-314-000.

Applicants: WTG Hugoton, LP.

Description: Compliance filing: Order No. 587-Z Compliance (NAESB Version 3.2) to be effective 6/1/2022.

Filed Date: 11/12/21.

Accession Number: 20211112-5307.

Comment Date: 5 p.m. ET 11/24/21.

Docket Numbers: RP22-315-000.

Applicants: East Cheyenne Gas Storage, LLC.

Description: Compliance filing: East Cheyennes NAESB Compliance Filing to be effective 6/1/2022.

Filed Date: 11/12/21.

Accession Number: 20211112-5308.

Comment Date: 5 p.m. ET 11/24/21.

Docket Numbers: RP22-316-000.

Applicants: Western Gas Interstate Company.

Description: Compliance filing: Order No. 587-Z Compliance (NAESB Version 3.2) to be effective 6/1/2022.

Filed Date: 11/12/21.

Accession Number: 20211112-5313.

Comment Date: 5 p.m. ET 11/24/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2021.
Debbie-Anne A. Reese,
Deputy Secretary.

[FR Doc. 2021-25252 Filed 11-18-21; 8:45 am]

BILLING CODE 6717-01-P